DEPARTMENT OF TRANSPORTATION

Federal Highway Administration

Environmental Impact Statement: Clark County, NV

AGENCY: Federal Highway Administration (FHWA), DOT.

ACTION: Notice of Intent.

SUMMARY: The FHWA is issuing this notice to advise the public that an environmental impact statement will be prepared for the proposed Sheep Mountain Parkway Multimodal Transportation Project, which includes highway, transit, and non-motorized trail components, in Clark County, Nevada.

FOR FURTHER INFORMATION CONTACT: Mr. Abdelmoez A. Abdalla, Environmental Program Manager, Federal Highway Administration, 705 N. Plaza Street, Suite 220, Carson City, NV 89701, Telephone: (775) 687-1231, e-mail: abdelmoez.abdalla@fhwa.dot.gov. or Mr. Daryl James, Chief, Environmental Service Division, Nevada Department of Transportation (NDOT), 1263 S. Stewart Street, Carson City, Nevada 89712, Telephone: (775) 888-7686, e-mail: djames@.dot.state.nv.us.

SUPPLEMENTARY INFORMATION: The FHWA, in cooperation with the Nevada Department of Transportation, the Regional Transportation Commission of Southern Nevada (RTC), and City of Las Vegas, will prepare an environmental impact statement (EIS) on a proposed multimodal transportation project in Clark County, Nevada. The FHWA will serve as the Lead Federal Agency while the NDOT will serve as Joint Lead Agency. The new 2005 SAFETEA-LU environmental review process will be followed. The proposed action is to preserve a right of way corridor, identify an alignment, and develop a facility type for the “Sheep Mountain Parkway” in and near northern portions of the City of Las Vegas and the City of North Las Vegas. The purpose of the proposed project is to accommodate travel demand resulting from existing and planned development in the northern Las Vegas Valley by considering multimodal transportation facilities. The proposed project will include new transportation facilities to provide a link between the Clark County 215 beltway, US 95, and I-15 (approximately 25 miles), as well as the arterial network in the northern Las Vegas Valley. The project will also connect to planned regional fixed guideway transit corridors on Rancho Road and North 5th Street.

The EIS will consider various improvement alternatives as well as a no action alternative. A feasibility study was conducted to assess multiple alignments and facility configuration options. Other alternatives will be considered as part of the public and environmental review process for this National Environmental Policy Act (NEPA) document. Public and agency scoping meetings are planned and will be held during the project development process. Letters describing the proposed project and soliciting comments will be sent to appropriate federal, state, and local agencies having special interest or expertise, as well as private organizations and citizens who have previously expressed or are known to have interest in the proposed project.

In addition, public meetings will be held during the project development process and a public hearing will be held for the draft EIS. Public notices will be given announcing the time and place of the public meetings and the hearing. The draft EIS will be available for public and agency review and comment prior to the public hearing.

To ensure that the full ranges of issues related to this proposed action are addressed and significant issues are identified, comments and suggestions are invited from interested parties. Comments or questions concerning this proposed action and the EIS should be directed to the FHWA or NDOT at the addresses provided above.

(Catalog of Federal Domestic Assistance Program Number 20.205, Highway Planning and Construction. The regulations implementing Executive Order 12372 regarding intergovernmental consultation on Federal programs and activities apply to this program.)

Authority: 42 U.S.C. § 4321 et seq., 49 CFR 1.48(d)(17), and 40 CFR 1501.7

Issued on: October 30, 2007.
Susan Klekar,
Division Administrator, FHWA, Nevada Division.

[FR Doc. 07-5518 Filed 11-5-07; 8:45 am]

BILLING CODE 4910-22-M